SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before September 22, 2009.

ADDRESSES: Send all comments regarding whether this information collection is necessary for the proper performance of the function of the agency, whether the burden estimates are accurate, and if there are ways to minimize the estimated burden and enhance the quality of the collection, to George Solomon, Supervisor Business Development Officer, Office of Business Initiatives, Small Business Administration, 409 3rd Street, 6th Floor, Washington, DC 20416.

FOR FURTHER INFORMATION CONTACT: George Solomon, Supervisor Business Development Officer, Office of Business Initiatives, 202-205-7436 george.solomon@sba.gov, Curtis B. Rich, Management Analyst, 202-205-7030 curtis.rich@sba.gov.

SUPPLEMENTARY INFORMATION: SBA'S strategic plan is to examine the impact of counseling and information services on nascent, start-up and in-business clients. This survey measure effects on counseling and information transfer on the respondent's evaluation of the effectiveness, usefulness, and relevancy of the services provided and whether these services/actions led to the creation of jobs and an increase in business start-ups and gross revenue.

Title: “Entrepreneurial Development Impact Study”.

Description of Respondents: SBA Clients.

Form Number: 2214.

Annual Responses: 8,100.

Annual Burden: 1,127.

Jacqueline White,
Chief, Administrative Information Branch.

[FR Doc. E9-17618 Filed 7-23-09; 8:45 am]

BILLING CODE 8025-01-P